NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice. The full submission may be found at: http://www.reginfo.gov/public/do/PRAMain.

DATES: Comments regarding this information collection are best assured of having their full effect if received by August 12, 2019.

FOR FURTHER INFORMATION CONTACT: Office of Information and Regulatory Affairs of OMB, Attention: Desk Officer for National Science Foundation, 725 17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of NCSES, including whether the information will have practical utility; (b) the accuracy of NCSES's estimate of the burden of the proposed collection of information; (c) ways to enhance the quality, use, and clarity of the information to be collected, including through the use of automated collection techniques or other forms of information technology; (d) ways to minimize the burden of the collection of information on those who are to respond, including through the use of appropriate automated or other forms of information technology should be addressed to the points of contact in the FOR FURTHER INFORMATION CONTACT section.

Title of Collection: 2019 Survey of Doctorate Recipients.

OMB Approval Number: 3145-0020.

Summary of Collection: The Survey of Doctorate Recipients (SDR) has been conducted biennially since 1973. The 2019 SDR will consist of a sample of 120,000 individuals less than 76 years of age who have earned a research doctoral degree in a science, engineering, or health field (SEH) from a U.S. institution. The purpose of this panel survey is to collect data that will be used to provide national estimates on the doctoral science and engineering workforce and changes in their employment, education, and demographic characteristics. The SDR is sponsored by the National Center for Science and Engineering Statistics (NCSES) within the NSF and by the National Institutes of Health. Data will be obtained by web, mail, and computer-assisted telephone interviews beginning in September 2019. Information from the SDR are used in assessing the quality and supply of the nation's SEH personnel resources for educational institutions, private industry, and professional organizations, as well as federal, state, and local governments. A public release file of collected data, that is designed to protect respondent confidentiality, will be made available to researchers, reporters, and other interested persons on the internet.

The National Science Foundation Act of 1950, as subsequently amended, includes a statutory charge to “. . . provide a central clearinghouse for the collection, interpretation, and analysis of data on scientific and engineering resources, and to provide a source of information for policy formulation by other agencies of the Federal Government.” The SDR is designed to comply with these mandates by providing information on the supply and utilization of the nation's doctoral level scientists and engineers.

The survey data will be collected in conformance with the Confidential Information Protection and Statistical Efficiency Act of 2002 and the Federal Cybersecurity Enhancement Act of 2015. The individual's response to the survey is voluntary. NSF will ensure that all information collected will be kept strictly confidential and will be used only for statistical purposes.

Use of the Information: The NSF uses the information from the SDR to prepare congressionally-mandated reports such as Women, Minorities and Persons with Disabilities in Science and Engineering and Science and Engineering Indicators. These two reports are made available, in full, on the internet. However, summary Digests of facts and figures from these lengthy reports are made available both in print and on the internet. Although NSF publishes statistics from the SDR in many reports, a set of statistical tables is produced online by NCSES in the biennial publication of SDR Data Tables.

Expected Respondents: A statistical sample of 120,000 SEH doctorate holders will be contacted in 2019. The 2019 cycle of the SDR will continue to carry forward the large expanded sample of doctorate holders first selected for the 2015 SDR. The larger sample supports estimates of employment outcomes on a greater number of SEH detailed fields of degree captured in the Survey of Earned Doctorates, by demographic characteristics, such as gender, ethnicity, and race. The 2019 SDR eligible sample will only include those who responded previously to either the 2017 SDR or the 2015 SDR and will add 10,000 doctorates from the most recent 2016 and 2017 academic years. In addition, a supplemental sample of nearly 15,000 doctorate holders from the 2013 Doctorate Records File was selected to replace those removed from the 2019 sample due to past nonresponse from either refusal or failure to locate. NSF expects the overall response rate for the 2019 SDR to be 75 percent.

Estimate of Burden: The amount of time to complete the questionnaire may vary depending on an individual's circumstances; however, on average it takes approximately 25 minutes. Thus, NSF estimates that the total annual burden for the 2019 SDR will be 37,500 hours (that is, 120,000 respondents at 75% response rate for 25 minutes).

Comment: As required by 5 CFR 1320.8(d), comments on the information collection activities as part of this study were solicited through the publication of a 60-Day Notice in the Federal Register on 14 August 2018, at FR Doc. 2018-17359. NCSES received one comment on 13 October 2018 from a group representing several organizations. The commenters requested that NCSES include measures of sexual orientation and gender identity on the SDR and on other NCSES surveys (specifically, the National Survey of College Graduates and the Survey of Earned Doctorates). NCSES informed the commenters that it shares their interest in improving federal data collections and providing reliable measures for important segments of the population. Furthermore, NCSES described its process for evaluating possible questionnaire additions, including the extensive experimentation involved and the time and resources required. Finally, NCSES informed the commenters that it is initiating research to evaluate these measures and does not intend to include them in the 2019 SDR.

NCSES also received 4 anonymous comments between 2 September 2018 and 15 September 2018 and each was deemed to be fully unrelated to the request for comment on this proposed information collection.

Dated: July 9, 2019.
Suzanne H. Plimpton,
Reports Clearance Officer, National Science Foundation.

[FR Doc. 2019-14854 Filed 7-11-19; 8:45 am]

BILLING CODE 7555-01-P